DEPARTMENT OF THE INTERIOR

U.S. Geological Survey

[GX17EG40DW73200; OMB Control Number 1028-0111]

Agency Information Collection Activities; Submission to the Office of Management and Budget for Review and Approval; The National Map Corps (TNMCorps)—Volunteered Geographic Information Project

AGENCY: U.S. Geological Survey, Interior.

ACTION: Notice of Information Collection; request for comment.

SUMMARY: In accordance with the Paperwork Reduction Act of 1995, we, the U.S. Geological Survey (USGS) are proposing to renew an information collection.

DATES: Interested persons are invited to submit comments on or before March 2, 2018.

ADDRESSES: Send written comments on this information collection request (ICR) to the Office of Management and Budget's Desk Officer for the Department of the Interior by email at OIRA_Submission@omb.eop.gov; or via facsimile to (202) 395-5806. Please provide a copy of your comments to USGS, Information Collections Clearance Officer, 12201 Sunrise Valley Drive MS 159, Reston, VA 20192; or by email to gs-info_collections@usgs.gov. Please reference OMB Control Number 1028-0111 in the subject line of your comments.

FOR FURTHER INFORMATION CONTACT: To request additional information about this ICR, contact Erin Korris, by email at ekorris@usgs.gov, or by telephone at 303-202-4503. You may also view the ICR at http://www.reginfo.gov/public/do/PRAMain.

SUPPLEMENTARY INFORMATION: We, the USGS, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

A Federal Register notice with a 60-day public comment period soliciting comments on this collection of information was published on November 21, 2017, 82 FR 55390. No comments were received.

We are again soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. Before including your address, phone number, email address, or other personal identifying information in your comment, you should be aware that your entire comment—including your personal identifying information—may be made publicly available at any time. While you may ask us in your comment to withhold your personal identifying information from public review, we cannot guarantee that we will be able to do so.

Abstract: The National Map Corps (TNMCorps) is the name of the U.S. Geological Survey (USGS) National Geospatial Program (NGP) project that encourages citizen participation in volunteer map data collection activities. TNMCorps uses crowdsourcing—new technologies and internet services to georeference structure points and share this information with others on map-based internet platforms—to produce volunteered geographic information (VGI). People participating in the crowd sourcing will be considered part of the TNMCorps.

Title of Collection: The National Map Corps (TNMCorps) —Volunteered Geographic Information Project.

OMB Control Number: 1028-0111.

Form Number: NA.

Type of Review: Extension of a currently approved collection.

Respondents/Affected Public: General Public.

Total Estimated Number of Annual Respondents: 1,000.

Total Estimated Number of Annual Responses: 101,000.

Estimated Completion Time per Response: 12 minutes.

Total Estimated Number of Annual Burden Hours: 21,000.

Respondent's Obligation: Voluntary.

Frequency of Collection: on occasion.

Total Estimated Annual Non-hour Burden Cost: There are no “non-hour cost” burdens associated with this IC.

An agency may not conduct or sponsor and a person is not required to respond to a collection of information unless it displays a currently valid OMB control number.

The authority for this action is the Paperwork Reduction Act of 1995 (44 U.S.C. 3501, et seq.).

Kari Craun,
Director, National Geospatial Technical Operations Center.

[FR Doc. 2018-01855 Filed 1-30-18; 8:45 am]

BILLING CODE 4338-11-P